DEPARTMENT OF TRANSPORTATION

Federal Aviation Administration

[Summary Notice No. PE-2001-90]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before December 13, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF building at the Department of Transportation at the above address. Also you may review public dockets on the Internet at http://dms.dot.gov.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on November 19, 2001.
Donald P. Byrne,
Assistant Chief Counsel for Regulations.

Petitions for Exemption

Docket No.: FAA-2001-10362.

Petitioner: Alpine Aviation, Inc. dba Alpine Air.

Section of 14 CFR Affected: 14 CFR § 61.51(e).

Description of Relief Sought: To permit certain Alpine Air second-in command (SIC) pilots who perform “the duties of pilot in command (PIC) under the supervision of a qualified PIC” to log their flight time in Beechcraft 99 and 1900 airplanes as PIC flight time. These SIC pilots would be permitted to log their time as PIC flight time even though (1) more than one pilot is not required by either the airplane type certificate or the regulations under which the flight is conducted, and (2) the SIC pilot does not hold the required type rating for the Beechcraft 1900 airplane.

Docket No.: FAA-2001-10873.

Petitioner: Air Serv International.

Section of 14 CFR Affected: Special Federal Aviation Regulation No. 90.

Description of Relief Sought: To permit Air Serv to provide humanitarian relief flights into the territory and airspace of Afghanistan.

[FR Doc. 01-29262 Filed 11-21-01; 8:45 am]

BILLING CODE 4910-13-M